ENVIRONMENTAL PROTECTION AGENCY

40 CFR Part 272

[EPA-R02-RCRA-2010-0249; FRL-9178-8]

New York: Incorporation by Reference of State Hazardous Waste Management Program

Correction

In rule document 2010-18927 beginning on page 45489 in the issue of Tuesday, August 3, 2010, make the following correction:

Appendix A to Part 272 [Corrected]

On page 45494, in Appendix A to Part 272, in the first column, in the second paragraph “Note:” should read “¹Note:”.

[FR Doc. C1-2010-18927 Filed 8-19-10; 8:45 am]

BILLING CODE 1505-01-D